DEPARTMENT OF TRANSPORTATION

Surface Transportation Board

[STB Finance Docket No. 34532]

Roaring Fork Transportation Authority—Acquisition and Operation Exemption—Roaring Fork Railroad Holding Authority

Roaring Fork Transportation Authority (RFTA), a government entity formed to operate transportation facilities, has filed a notice of exemption to acquire from Roaring Fork Railroad Holding Authority (RFRHA) all of RFRHA's rights to reactivate rail service on RFRHA's line between milepost 360.22 in Glenwood Springs, CO, and milepost 393.66, near Woody Creek, CO, a distance of 33.44 miles (the line).

In a decision and notice of interim trail use or abandonment in Roaring Fork Railroad Holding Authority—Abandonment Exemption—in Garfield, Eagle, and Pitkin Counties, CO, STB Docket No. AB-547X (STB served Oct. 16, 1998), RFRHA was authorized to abandon the line and rail bank the right-of-way in its own name. In a decision served on November 30, 2001, in that proceeding, the Board granted the substitution of RFTA as the interim trail manager. RFRHA subsequently transferred all of its rights in the line, as well as ownership of the line to RFTA. RFTA now seeks Board approval for a transfer of the right to reactivate the rail line.

RFTA certifies that its projected annual revenues will not exceed those that would qualify it as a Class III carrier.

If the notice contains false or misleading information, the exemption is void ab initio. Petitions to revoke the exemption under 49 U.S.C. 10502(d) may be filed at any time. The filing of a petition to revoke will not automatically stay the transaction.

An original and 10 copies of all pleadings, referring to STB Finance Docket No. 34532, must be filed with the Surface Transportation Board, 1925 K Street, NW., Washington, DC 20423-0001. In addition, one copy of each pleading must be served on Charles H. Montange, 426 NW 162d St., Seattle, WA 98177.

Board decisions and notices are available on our Web site at http://www.stb.dot.gov.

Decided: August 16, 2004.
By the Board, David M. Konschnik, Director, Office of Proceedings.
Vernon A. Williams,
Secretary.

[FR Doc. 04-19238 Filed 8-20-04; 8:45 am]

BILLING CODE 4915-01-P